DEPARTMENT OF COMMERCE

International Trade Administration

[A-469-819]

Acetone From Spain: Final Determination of Sales at Less Than Fair Value, and Final Determination of No Shipments

AGENCY: Enforcement and Compliance, International Trade Administration, Department of Commerce.

SUMMARY: The Department of Commerce (Commerce) determines that acetone from Spain is being, or is likely to be, sold in the United States at less than fair value (LTFV). The period of investigation (POI) is January 1, 2018 through December 31, 2018.

DATES: Applicable October 21, 2019.

FOR FURTHER INFORMATION CONTACT: Preston Cox, AD/CVD Operations, Office VI, Enforcement and Compliance, International Trade Administration, U.S. Department of Commerce, 1401 Constitution Avenue NW, Washington, DC 20230; telephone: (202) 482-5041.

SUPPLEMENTARY INFORMATION:

Background

On August 5, 2019, Commerce published the Preliminary Determination in the Federal Register.¹ The petitioner in this investigation is the Coalition for Acetone Fair Trade. Commerce individually examined CEPSA Quimica, S.A. (CEPSA) in this investigation. We provided interested parties an opportunity to comment on the Preliminary Determination. We received no comments. Commerce conducted this investigation in accordance with section 731 of the Tariff Act of 1930, as amended (the Act).

¹ See Acetone From Spain: Preliminary Affirmative Determination of Sales at Less Than Fair Value, and Preliminary Determination of No Shipments, 84 FR 37990 (August 5, 2019) (Preliminary Determination), and accompanying memorandum, “Decision Memorandum for the Preliminary Determination in the Less-Than-Fair-Value Investigation of Acetone from Spain” (PDM).

Scope of the Investigation

The merchandise covered by this investigation is all grades of liquid or aqueous acetone. Acetone is also known under the International Union of Pure and Applied Chemistry (IUPAC) name propan-2-one. In addition to the IUPAC name, acetone is also referred to as ß-ketopropane (or beta-ketopropane), ketone propane, methyl ketone, dimethyl ketone, DMK, dimethyl carbonyl, propanone, 2-propanone, dimethyl formaldehyde, pyroacetic acid, pyroacetic ether, and pyroacetic spirit. Acetone is an isomer of the chemical formula C3H6O, with a specific molecular formula of CH3COCH3 or (CH3)2CO.

The scope covers both pure acetone (with or without impurities) and acetone that is combined or mixed with other products, including, but not limited to, isopropyl alcohol, benzene, diethyl ether, methanol, chloroform, and ethanol. Acetone that has been combined with other products is included within the scope, regardless of whether the combining occurs in third countries.

The scope also includes acetone that is commingled with acetone from sources not subject to this investigation.

For combined and commingled products, only the acetone component is covered by the scope of this investigation. However, when acetone is combined with acetone components from sources not subject to this investigation, those third country acetone components may still be subject to other acetone investigations.

Notwithstanding the foregoing language, an acetone combination or mixture that is transformed through a chemical reaction into another product, such that, for example, the acetone can no longer be separated from the other products through a distillation process (e.g., methyl methacrylate (MMA) or Bisphenol A (BPA)), is excluded from this investigation.

A combination or mixture is excluded from these investigations if the total acetone component (regardless of the source or sources) comprises less than 5 percent of the combination or mixture, on a dry weight basis.

The Chemical Abstracts Service (CAS) registry number for acetone is 67-64-1.

The merchandise covered by this investigation is currently classifiable under Harmonized Tariff Schedule of the United States (HTSUS) subheadings 2914.11.1000 and 2914.11.5000. Combinations or mixtures of acetone may enter under subheadings in Chapter 38 of the HTSUS, including, but not limited to, those under heading 3814.00.1000, 3814.00.2000, 3814.00.5010, and 3814.00.5090. The list of items found under these HTSUS subheadings is non-exhaustive. Although these HTSUS subheadings and CAS registry number are provided for convenience and customs purposes, the written description of the scope of this investigation is dispositive.

Scope Comments

Commerce did not receive any additional scope comments and has not updated the scope of the investigation since the Preliminary Determination.

Verification

Because the mandatory respondent in this investigation did not provide necessary information requested by Commerce, we did not conduct verification.

Changes Since the Preliminary Determination and Use of Adverse Facts Available

Commerce has made no changes to the Preliminary Determination and hereby adopts the determinations therein for purposes of our final determination. We therefore continue to find that the application of facts available with an adverse inference with respect to the examined respondent, i.e., CEPSA, was warranted, in accordance with sections 776(a)(1), 776(a)(2)(A)-(C), and 776(b) of the Act.²

² See Preliminary Determination, 84 FR at 37991; see also PDM at 3-8.

Final Determination of No Shipments

In our Preliminary Determination, we found that Industrias Quimicas del Oxido de Etileno, S.A. (IQOXE) had no sales or shipments of subject merchandise during the POI, and, therefore, we determined not to further examine IQOXE as part of this investigation.³ Commerce received no comments regarding this issue after the Preliminary Determination. Thus, for this final determination, we continue to find that IQOXE had no sales of subject merchandise during the POI. As such, any entries of subject merchandise exported by IQOXE will be subject to the all-others rate.

³ See Preliminary Determination, 84 FR at 37991; see also PDM at 3.

All-Others Rate

As discussed in the Preliminary Determination, Commerce based the selection of the all-others rate on the simple average of the two dumping margins calculated for subject merchandise from Spain alleged in the petition,⁴ in accordance with section 735(c)(5)(B) of the Act, and determined a rate of 137.39 percent. No parties commented on this issue and we made no changes to the all-others rate for this final determination.⁵

⁴ See Petitioner's Letter, “Petitions for the Imposition of Antidumping on Imports of Acetone from Belgium, Korea, Saudi Arabia, Singapore, South Africa and Spain,” dated February 19, 2019 (the Petition) at Volume VII; see also Petitioner's Letter, “Acetone from Spain: Response to Questionnaire on Antidumping Petition,” dated February 26, 2019; and the Spain Initiation Checklist, dated March 11, 2019.

⁵ See Preliminary Determination, 84 FR at 37991; see also PDM at 8-9.

Final Determination

The final estimated weighted-average dumping margins are as follows:

Exporter/producer | Estimated dumping margin (percent)
CEPSA Quimica, S.A | 171.81
All Others | 137.39

Disclosure

The estimated weighted-average dumping margin assigned to CEPSA in this investigation in the Preliminary Determination was based on adverse facts available, and Commerce described the method it used to determine the adverse facts available rate in the Preliminary Determination. As we have made no changes to this margin and continue to apply adverse facts available in determining the rate for CEPSA, no disclosure of calculations is necessary for this final determination.

Continuation of Suspension of Liquidation

Pursuant to section 735(c)(1)(B)(ii) of the Act and 19 CFR 351.210(d), we will instruct U.S. Customs and Border Protection (CBP) to require a cash deposit for such entries of merchandise equal to the estimated weighted-average dumping margin as follows: (1) The cash deposit rate for the respondent listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all others estimated weighted-average dumping margin. These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of acetone from Spain no later than 45 days after our final determination. If the ITC determines that material injury or threat of material injury does not exist, the proceeding will be terminated, and all cash deposits will be refunded. If the ITC determines that such injury does exist, Commerce intends to issue an antidumping duty order directing CBP to assess, upon further instruction by Commerce, antidumping duties on all imports of the subject merchandise entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

These determinations are issued and published in accordance with sections 735(d) and 777(i) of the Act and 19 CFR 351.210(c).

Dated: October 15, 2019.
Jeffrey I. Kessler,
Assistant Secretary for Enforcement and Compliance.

[FR Doc. 2019-22879 Filed 10-18-19; 8:45 a.m.]

BILLING CODE 3510-DS-P